NUCLEAR REGULATORY COMMISSION

[Docket Nos. 50-369 and 50-370]

Duke Energy Corporation, McGuire Nuclear Station, Units 1 and 2; Environmental Assessment and Finding of No Significant Impact

The U.S. Nuclear Regulatory Commission (NRC) is considering issuance of an exemption from title 10 of the Code of Federal Regulations (10 CFR) part 73, Appendix B, section I.B.b(1), “Vision,” for Renewed Facility Operating License Nos. NPF-9 and NPF-17, issued to Duke Energy Corporation (the licensee), for operation of the McGuire Nuclear Station, Units 1, and 2, (McGuire) located in Mecklenburg County, North Carolina. Therefore, as required by 10 CFR 51.21, the NRC is issuing this environmental assessment and finding of no significant impact.

Environmental Assessment

Identification of the Proposed Action

The proposed action would grant an exemption from the requirements of 10 CFR part 73, Appendix B, section I.B.b(1), “Vision.” The proposed action is in accordance with the licensee's application dated June 12, 2003, that is being withheld from public disclosure pursuant to 10 CFR 2.390(a)(6). It is being withheld from public disclosure because it contains information about an employee's personnel and medical records, a disclosure of which would constitute a clearly unwarranted invasion of privacy.

The NRC staff's Safety Evaluation will be issued along with the exemption; it will be withheld from public disclosure because it also contains information about an employee's personnel and medical records.

The Need for the Proposed Action

The proposed action is needed so that the licensee can institute some specified action for a particular individual. Providing additional information pertaining to the need for the proposed action would require discussing information about the employee's personnel and medical records. The NRC staff has determined that granting the exemption will not jeopardize the health and safety of the public or endanger security operations, and approval of the proposed exemption not be inimical to the common defense and security or to the health and safety of the public. The basis for this determination will be provided in a Safety Evaluation that will be an enclosure to the exemption. This Safety Evaluation will be withheld from public disclosure because it contains information about an employee's personnel and medical records.

Environmental Impacts of the Proposed Action

The NRC has completed its evaluation of the proposed action and concludes that there are no environmental impacts.

The proposed action will not significantly increase the probability or consequences of accidents, no changes are being made in the types of effluents that may be released off-site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in NUREG-0063, “Final Environmental Statement Related to the Operation of William B. McGuire Nuclear Station, Units 1 and 2,” April 1976, and the Addendum to NUREG-0063 issued in January 1981; and in NUREG-1437, “Generic Environmental Impact Statement for License Renewal of Nuclear Plants, Supplement 8, Regarding McGuire Nuclear Station, Units 1 and 2, Final Report,” dated December 2002.

Agencies and Persons Consulted

On March 29, 2004, the NRC staff consulted with the South Carolina State official, Mr. Virgil Autry of the Department of Health and Environmental Controls, regarding the environmental impact of the proposed action. The State official had no comments.

Finding of No Significant Impact

On the basis of the environmental assessment, the NRC concludes that the proposed action will not have a significant effect on the quality of the human environment. Accordingly, the NRC has determined not to prepare an environmental impact statement for the proposed action.

Dated in Rockville, Maryland, this 2nd day of April, 2004.
For the Nuclear Regulatory Commission.
Edwin M. Hackett,
Project Director, Project Directorate II, Division of Licensing Project Management, Office of Nuclear Reactor Regulation.

[FR Doc. E4-782 Filed 4-7-04; 8:45 am]

BILLING CODE 7590-01-P